DEPARTMENT OF ENERGY

10 CFR Part 430

[EERE-2019-BT-TP-0012 and EERE-2020-TP-0012]

RIN 1904-AD86 and 1904-AE49

Energy Conservation Program: Test Procedure for External Power Supplies and Battery Chargers

AGENCY: Office of Energy Efficiency and Renewable Energy, Department of Energy.

ACTION: Notice of rescheduled public meeting.

SUMMARY: On November 2, 2021, the U.S. Department of Energy (“DOE”) published a supplemental notice of proposed rulemaking (“SNOPR”), and request for comment for the test procedure for external power supplies. The SNOPR announced a public meeting webinar would be held on December 15, 2021. Additionally, on November 23, 2021, DOE published a notice of proposed rulemaking (“NOPR”), and request for comment for the test procedure for battery chargers. This NOPR announced that the public meeting webinar scheduled for December 15, 2021, would also cover the battery charger test procedure proposal. To avoid a scheduling conflict with another public meeting webinar scheduled for that same date and time regarding the test procedure for cooking products, DOE is moving the public meeting webinar for the external power supply and battery charger test procedures to Monday, December 13, 2021.

DATES: The public meeting webinar regarding the SNOPR on the test procedure for external power supplies and the NOPR on the test procedure for battery chargers will now be held on December 13, 2021, from 12:30 p.m. until 4 p.m.

ADDRESSES: See the “Public Participation” section of this document for webinar registration information, participant instructions, and information about the capabilities available to webinar participants. Interested persons are encouraged to submit comments via email or by using the Federal eRulemaking Portal at www.regulations.gov. Further information on how to submit written comments is provided in the Federal Register notices for the SNOPR on the test procedure for external power supplies and the NOPR on the test procedure for battery chargers.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Kristin Koernig, U.S. Department of Energy, Office of the General Counsel, GC-33, 1000 Independence Avenue SW, Washington, DC 20585-0121. Telephone: (202) 586-3593. Email: kristin.koernig@hq.doe.gov.

Mr. Michael Kido, U.S. Department of Energy, Office of the General Counsel, GC-33, 1000 Independence Avenue SW, Washington, DC 20585-0121. Telephone: (202) 586-8145. Email: michael.kido@hq.doe.gov.

For further information on how to submit a comment or review other public comments and the docket contact the Appliance and Equipment Standards Program staff at (202) 287-1445 or by email: ApplianceStandardsQuestions@ee.doe.gov.

SUPPLEMENTARY INFORMATION: On November 2, 2021, the U.S. Department of Energy (“DOE”) published a supplemental notice of proposed rulemaking and request for comment for the test procedure for external power supplies. 86 FR 60376. The SNOPR announced a public meeting webinar would be held on December 15, 2021. Additionally, on November 23, 2021, DOE published a notice of proposed rulemaking and request for comment for the test procedure for battery chargers. 86 FR 66878. This NOPR announced that the public meeting webinar scheduled for December 15, 2021 would also cover the battery charger test procedure proposal.

On November 4, 2021, DOE published a notice of proposed rulemaking for the test procedure cooking products. This NOPR announced that a public meeting would be held on December 15, 2021. 86 FR 60974. Given that interested stakeholders may wish to attend both public meetings, DOE is rescheduling the public meeting that will cover the SNOPR on the test procedure for external power supplies and the NOPR on the test procedure for battery chargers.

Public Participation

The time and date of the webinar meeting are listed in the DATES section at the beginning of this document. Webinar registration information, participant instructions, and information about the capabilities available to webinar participants will be published on DOE's websites: www1.eere.energy.gov/buildings/appliance_standards/standards.aspx?productid=1 and www1.eere.energy.gov/buildings/appliance_standards/standards.aspx?productid=26. Participants are responsible for ensuring their systems are compatible with the webinar software.

Any person who has an interest in the topics addressed in either document, or who is representative of a group or class of persons that has an interest in these issues, may request an opportunity to make an oral presentation at the webinar. Requests should be sent by email to: ApplianceStandardsQuestions@ee.doe.gov. Persons who wish to speak should include with their request a computer file in WordPerfect, Microsoft Word, PDF, or text (ASCII) file format that briefly describes the nature of their interest in this rulemaking and the topics they wish to discuss. Such persons should also provide a daytime telephone number where they can be reached.

Persons requesting to speak should briefly describe the nature of their interest in these rulemakings and provide a telephone number for contact. DOE requests persons selected to make an oral presentation to submit an advance copy of their statements at least two weeks before the webinar. At its discretion, DOE may permit persons who cannot supply an advance copy of their statement to participate, if those persons have made advance alternative arrangements with the Building Technologies Office. As necessary, requests to give an oral presentation should ask for such alternative arrangements.

DOE will designate a DOE official to preside at the webinar and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the webinar. There shall not be discussion of proprietary information, costs or prices, market share, or other commercial matters regulated by U.S. anti-trust laws. After the webinar, and until the end of the comment period, interested parties may submit further comments on the proceedings and any aspect of the rulemaking.

The webinar will be conducted in an informal, conference style. DOE will allow time for prepared general statements by participants and encourage all interested parties to share their views on issues affecting this rulemaking. Each participant will be allowed to make a general statement (within time limits determined by DOE), before the discussion of specific topics. DOE will permit, as time permits, other participants to comment briefly on any general statements.

At the end of all prepared statements on a topic, DOE will permit participants to clarify their statements briefly. Participants should be prepared to answer questions by DOE and by other participants concerning these issues. DOE representatives may also ask questions of participants concerning other matters relevant to this rulemaking. The official conducting the webinar will accept additional comments or questions from those attending, as time permits. The presiding official will announce any further procedural rules or modification of the above procedures that may be needed for the proper conduct of the webinar.

A transcript of the webinar will be included in the docket, which can be viewed as described in the Docket section at the beginning of this document. In addition, any person may buy a copy of the transcript from the transcribing reporter.

Signing Authority

This document of the Department of Energy was signed on November 23, 2021, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 23, 2021.
Treena V. Garrett,
Federal Register Liaison Officer, U.S. Department of Energy.

[FR Doc. 2021-25977 Filed 11-29-21; 8:45 am]

BILLING CODE 6450-01-P